DEPARTMENT OF COMMERCE

National Oceanic and Atmospheric Administration

50 CFR 679

[Docket No. 211221-0266]

RIN 0648-BL04

Fisheries of the Exclusive Economic Zone off Alaska; Reclassifying Sculpin Species in the Groundfish Fisheries of the Bering Sea and Aleutian Islands and the Gulf of Alaska; Correcting Amendment

Correction

In rule document 2021-28232, appearing on pages 74386 thru 74389, in the issue of Thursday, December 30, 2021, make the following correction:

PART 679—FISHERIES OF THE EXCLUSIVE ECONOMIC ZONE OFF ALASKA [ CORRECTED]

On page 74388, at the bottom of the page, immediately following Table 10, insert the following amendatory instruction:

“3. Revise Table 11 to Part 679—BSAI Retainable Percentage, to read as follows:”

[FR Doc. C1-2021-28232 Filed 1-4-22; 8:45 am]

BILLING CODE 0099-10-P